DEPARTMENT OF TRANSPORTATION

Federal Aviation Administration

17th Meeting: RTCA Special Committee 206/EUROCAE WG 76 Plenary

AGENCY: Federal Aviation Administration (FAA), DOT.

ACTION: Notice of RTCA special committee 206 meeting.

SUMMARY: The FAA is issuing this notice to advise the public of a meeting of RTCA Special Committee 206: Aeronautical Information Services Data Link.

DATES: The meeting will be held June 15-19, 2009 from 9 a.m. to 5 p.m.

ADDRESSES: The meeting will be held at Radisson Bay Point Resort, St. George's Bay, St. Julians, Malta. Phone: +356-2137-4894 Reservation number from the US: 1-800-395 7046 Web site: http://www.radisson.com; Contact person: Laurence Mutuel—Cell +33 6 30 93 73 82 / office +33 5 61 19 69 79.

SUPPLEMENTARY INFORMATION: Pursuant to section 10(a)(2) of the Federal Advisory Committee Act (Pub. L. 92-463, 5 U.S.C., Appendix 2), notice is hereby given for a Special Committee 206 meeting/EUROCE WG 76. The agenda will include:

15 June

• Opening Plenary (Chairmen's remarks and introductions, Review and approve meeting agenda and minutes, Schedule for this week).

• Discussion.

• Action Item Review.

• Schedule for next meetings.

• Presentations.

• FLYSAFE Project—Laurence Mutual.

• Status of SAE G-10 Response to Symbology Standards Request—Bob Smith.

• Coordination between 76/206 and 78/214—Stephane Dubet.

• Others to be determined.

• SPR and INTEROP.

June 16

• AIS and MET Subgroup meetings.

June 17

• AIS and MET Subgroup meetings.

June 18

• AIS and MET Subgroup meetings.

June 19

• AIS and MET Subgroup meetings.

• Plenary Session (Other Business, Meeting Plans and Dates).

• Closing Plenary Session (Other Business, Meeting Plans and Dates, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 14, 2009.
Meredith Gibbs,
RTCA Advisory Committee.

[FR Doc. E9-11752 Filed 5-19-09; 8:45 am]

BILLING CODE 4910-13-P